DEPARTMENT OF DEFENSE

Office of the Secretary

[Docket ID: DoD-2010-OS-0130]

Proposed Collection; Comment Request

AGENCY: Office of the Under Secretary of Defense (Personnel and Readiness), DoD.

ACTION: Notice.

SUMMARY: In compliance with Section 3506(c)(2)(A) of the Paperwork Reduction Act of 1995, the Office of the Under Secretary of Defense (Personnel and Readiness) announces the following proposed extension of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by November 29, 2010.

ADDRESSES: You may submit comments, identified by docket number and title, by any of the following methods:

• Federal eRulemaking Portal: http://www.regulations.gov. Follow the instructions for submitting comments.

• Mail: Federal Docket Management System Office, 1160 Defense Pentagon, Room 3C843, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness), National Security Education Program, 1101 Wilson Blvd., Suite 1210, Arlington, VA 22209, ATTN: Dr. Kevin Gormley or call (703) 696-1991.

Title, associated form(s), and OMB control number: National Security Education Program (NSEP); DD Form 2752, “National Security Education Program (NSEP) Service Agreement for Scholarship and Fellowship Awards” and DD Form 2753, “National Security Education Program (NSEP) Service Agreement Report (SAR) for Scholarship and Fellowship Awards”; OMB Control Number 0704-0368.

Needs and uses: This information collection requirement is necessary to record the original award amount and service requirement of a particular award recipient (DD form 2752) and the progress an award recipient makes toward fulfilling their service requirement as signed when she/he receives the award (DD Form 2753).

Affected public: Individuals or households.

Annual burden hours: 400.

Number of respondents: 1,400.

Responses per respondent: 1.

Average burden per response: 17 minutes.

Frequency: On occasion.

SUPPLEMENTARY INFORMATION:

Summary of Information Collection

Respondents are undergraduate and graduate students that are agreeing to the terms of their award (DD Form 2752) and who agreed at the receipt of the award to submit the Service Agreement Report (DD Form 2753) annually until their service requirement is fulfilled. The information will be used to follow award recipients as they fulfill their service obligation with the federal government.

Dated: September 10, 2010.
Patricia L. Toppings,
OSD Federal Register Liaison Officer, Department of Defense.

[FR Doc. 2010-24525 Filed 9-29-10; 8:45 am]

BILLING CODE 5001-06-P